DEPARTMENT OF HOUSING AND URBAN DEVELOPMENT

[Docket No. FR-5681-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Office of the Assistant Chief of Staff for Installation Management, Department of Army, Room 5A128, 600 Army Pentagon, Washington, DC 20310, (571) 256-8145; Coast Guard: Commandant, United States Coast Guard, Attn: Jennifer Stomber, 2100 Second St. SW., Stop 7901, Washington, DC 20593-0001, (202) 475-5609; (These are not toll-free numbers).

Dated: May 9, 2013.
Mark Johnston,
Deputy Assistant Secretary for Special Needs.

Title V, Federal Surplus Property Program Federal Register Report for 05/17/2013

Suitable/Available Properties

Building

Alaska

Building 00001

9679 Tuluksak Rd.

Toksook AK 99679

Landholding Agency: Army

Property Number: 21201320038

Status: Excess

Comments: 1,200 sf.; armory; 60 months vacant; poor conditions

Colorado

Building 01852

6359 Barkley Ave.

Ft. Carson CO 80913

Landholding Agency: Army

Property Number: 21201320036

Status: Excess

Comments: off-site removal only; 9,822 sf.; BDE HQ; repairs needed; asbestos; secured area; contact Army for access/removal requirements

Building 01854

6370 Porter St.

Ft. Carson CO 80913

Landholding Agency: Army

Property Number: 21201320037

Status: Excess

Comments: off-site removal only; 3,800 sf.; Admin.; repairs needed; asbestos; secured area; contact Army for access/removal requirements

Building 00304

5020 Tevis St.

Ft. Carson CO 80913

Landholding Agency: Army

Property Number: 21201320039

Status: Excess

Comments: off-site removal only; 15,484 sf.; Admin.; 4 months vacant; repairs needed; asbestos; contact Army for access/removal requirements

Georgia

Building 00062

1 Camp Merrill

Dahlonega GA 31905

Landholding Agency: Army

Property Number: 21201320003

Status: Unutilized

Comments: off-site removal only; 910 sf.; sep toil/shower; poor conditions; contact Army re: removal requirements

Building 02294

7895 Alekno Street

Ft. Benning GA 31905

Landholding Agency: Army

Property Number: 21201320004

Status: Underutilized

Comments: off-site removal only; 5,614 sf.; classroom; poor conditions; contact Army re: removal requirements

Idaho

R1A11

16 Miles South

Boise ID 83634

Landholding Agency: Army

Property Number: 21201320005

Status: Excess

Comments: off-site removal only; 1,040 sf., dilapidated, repairs a must, temp. shelter, 9 months vacant, has hanta virus presence.

R1A13

16 Miles South

Boise ID 83634

Landholding Agency: Army

Property Number: 21201320015

Status: Excess

Comments: off-site removal only; 1,040 sf.; temp. shelter; 9 months vacant; dilapidated; Hanta virus; repairs a must

R1A10

16 Miles South

Boise ID 83634

Landholding Agency: Army

Property Number: 21201320041

Status: Excess

Comments: off-site removal only; 1,040 sf.; dilapidated; repairs a must; 9 months vacant; Hanta virus

R1A12

16 Miles South

Boise ID 83634

Landholding Agency: Army

Property Number: 21201320042

Status: Excess

Comments: off-site removal only; 1,040 sf.; temp. shelter; 9 months vacant; dilapidated; repairs a must; Hanta virus

R1A15

16 Miles South

Boise ID 83634

Landholding Agency: Army

Property Number: 21201320043

Status: Excess

Comments: off-site removal only; 1,040 sf.; temp. shelter; 9 months vacant; dilapidated; Hanta virus; repair a must

Kansas

Building 00620

Mitchell Terr.

Ft. Riley KS 66442

Landholding Agency: Army

Property Number: 21201320014

Status: Excess

Comments: off-site removal only; 12,640 sf.; lodging; deteriorating; asbestos

Building 09098

Vinton School Rd.

Ft. Riley KS 66442

Landholding Agency: Army

Property Number: 21201320016

Status: Excess

Comments: off-site removal only; 120 sf.; guard shack; fair/moderate conditions

Building 07856

Drum St.

Ft. Riley KS 66442

Landholding Agency: Army

Property Number: 21201320017

Status: Excess

Comments: off-site removal only; 13,493 sf.; dining facility; deteriorating; asbestos

Building 07636

Normandy Dr.

Ft. Riley KS 66442

Landholding Agency: Army

Property Number: 21201320018

Status: Excess

Comments: off-site removal only; 9,850 sf.; deteriorating; asbestos

Building 05309

Ewell St.

Ft. Riley KS 66442

Landholding Agency: Army

Property Number: 21201320019

Status: Excess

Comments: off-site removal only; 23,784 sf.; lodging; deteriorating; asbestos

Building 00918

Caisson Hill Rd.

Ft. Riley KS 66442

Landholding Agency: Army

Property Number: 21201320020

Status: Excess

Comments: off-site removal only; 3,536 sf.; admin. general purpose; deteriorating; possible contamination; secured area; however, prior approval to access is needed; contact Army for more info.

Building 00621

Mitchell Terr.

Ft. Riley KS 66442

Landholding Agency: Army

Property Number: 21201320021

Status: Excess

Comments: off-site removal only; 12,640 sf.; lodging; deteriorating; asbestos

Massachusetts

7 Buildings

Lyra Drive

S. Weymouth MA 02190

Landholding Agency: Coast Guard

Property Number: 88201320004

Status: Excess

Directions: 213, 214, 216, 217, 218, 219, 220

Comments: off-site removal only; sf. varies; housing; poor conditions; contact Coast Guard for more info. on a specific property & accessibility/removal requirements

New York

2 Buildings

Wheeler-Sack Army Airfield

Ft. Drum NY 13602

Landholding Agency: Army

Property Number: 21201320032

Status: Underutilized

Directions: Bldgs. 2071 & 2075 each are 160 sf.

Comments: no future use for properties; off-site removal only; poor conditions; secured area; contact Army re: accessibility/removal requirements

2 Buildings

Hanger Access Drive

Ft. Drum NY 13602

Landholding Agency: Army

Property Number: 21201320033

Status: Underutilized

Directions: Bldgs. 19711 & 19712 are each 3,024 sf.

Comments: no future Army use; off-site removal only; fair/moderate conditions; secured area; contact Army re: accessibility/removal requirements

2 Buildings

Wheeler-Sack Army

Ft. Drum NY 13602

Landholding Agency: Army

Property Number: 21201320034

Status: Unutilized

Directions: Bldgs. 2908 & 2909 are each 11,809 sf.

Comments: no future Army use; off-site removal only; poor conditions; secured area; contact Army re: accessibility/removal requirements

Pennsylvania

Building 01015

11 Hap Arnold Blvd.

Tobyhanna PA 18466

Landholding Agency: Army

Property Number: 21201320031

Status: Unutilized

Comments: off-site removal only; 3,120 sf.; recruiting station; 1 month vacant; poor conditions; asbestos; secured area; contact Army for more info.

Building 01001

11 Hap Arnold Blvd.

Tobyhanna PA 18466

Landholding Agency: Army

Property Number: 21201320035

Status: Excess

Comments: off-site removal only; 4,830 sf.; youth center/admin.; 1 month vacant; poor conditions; asbestos; secured area; contact Army for more info.

Virginia

Building 3327

1410 Byrd St.

Ft. Lee VA 23801

Landholding Agency: Army

Property Number: 21201320008

Status: Excess

Comments: off-site removal only; 10,800 sf.; repairs needed; contamination; secured area; contact Army for more info.

Building 3325

Byrd St. btw. 13th & 16th Sts.

Ft. Lee VA 23801

Landholding Agency: Army

Property Number: 21201320009

Status: Excess

Comments: off-site removal only; 5,829 sf.; repairs needed; contamination; secured; contact Army for more info.

Building 3324

Byrd St. btw. 13th & 16th Sts.

Ft. Lee VA 23801

Landholding Agency: Army

Property Number: 21201320010

Status: Excess

Comments: off-site removal only; 5,092 sf.; repairs needed; secured area; contact Army for more info.

Building 3206

Corner of Adams Ave. & 13th St.

Ft. Lee VA 23801

Landholding Agency: Army

Property Number: 21201320011

Status: Excess

Comments: off-site removal only; 55,979 sf.; repairs needed; secured area; contamination; contact Army for more info.

Building 3108

Corner of Adam & 13th St.

Ft. Lee VA 23801

Landholding Agency: Army

Property Number: 21201320012

Status: Excess

Comments: off-site removal only; 51,718 sf.; repairs needed; secured area; contamination; contact Army for more info.

Building 3701

16th & Byrd St.

Ft. Lee VA 23801

Landholding Agency: Army

Property Number: 21201320013

Status: Excess

Comments: off-site removal only; 40,920 sf.; repairs needed; secured area; contact Army for more info.

Unsuitable Properties

Building

California

2 Buildings

Military Ocean Terminal Concord

Concord CA 94520

Landholding Agency: Army

Property Number: 21201320023

Status: Unutilized

Directions: 000A3 & 00E82

Comments: public access denied & no alternative method to gain access w/out compromising nat'l security

Reasons: Secured Area

Buildings 00177 & 00185

Tufa Dr.

Herlong CA 96113

Landholding Agency: Army

Property Number: 21201320040

Status: Unutilized

Comments: public access denied & no alternative method to gain access w/out compromising nat'l security

Reasons: Secured Area

Colorado

Building 00593

45825 Hay 96 East

Pueblo CO 81006

Landholding Agency: Army

Property Number: 21201320006

Status: Underutilized

Comments: public access denied & no alternative method w/out compromising nat'l sec.

Reasons: Secured Area

Indiana

2 Buildings

3008 Hospital Rd.

Edinburgh IN 46124

Landholding Agency: Army

Property Number: 21201320002

Status: Unutilized

Directions: 00126 & 00331

Comments: located in secured area; public access denied & no alternative method to gain access w/out compromising nat'l security

Reasons: Secured Area

Kentucky

Building 6117

Eisenhower Ave.

Ft. Knox KY 40121

Landholding Agency: Army

Property Number: 21201320026

Status: Unutilized

Comments: w/in Ft. Know cantonment area; public access denied & no alternative method to gain access w/out compromising nat'l security

Reasons: Secured Area

Building 3304

46th & Indiana Ave.

Ft. Campbell KY 42223

Landholding Agency: Army

Property Number: 21201320027

Status: Underutilized

Comments: secured area; public access denied & no alternative method to gain access w/out compromising nat'l security

Reasons: Secured Area

Building 6908

A Shau Valley Rd.

Ft. Campbell KY 42223

Landholding Agency: Army

Property Number: 21201320028

Status: Unutilized

Comments: public access denied & no alternative method to gain access w/out compromising nat'l security

Reasons: Secured Area

Missouri

4 Buildings

Ft. Leonard Wood

Ft. Leonard Wood MO 65473

Landholding Agency: Army

Property Number: 21201320022

Status: Unutilized

Directions: 05343, 05382, 05394, 06501

Comments: public access denied & no alternative method to gain access w/out compromising nat'l security

Reasons: Secured Area

North Carolina

7 Buildings

Ft. Bragg

Ft. Bragg NC 28310

Landholding Agency: Army

Property Number: 21201320001

Status: Underutilized

Directions: 21817, A5886, C8310, D2302, D2307, D2502, D2507

Comments: military reservation; access limited to military personnel only; access denied & no alternative method to gain access w/out compromising nat'l security

Reasons: Secured Area

Virginia

26 Building

Null

Radford VA 24143

Landholding Agency: Army

Property Number: 21201320007

Status: Unutilized

Directions: 1506A, 1506B, 1609, 1609A, 1609B, 1609C, 1616, 1616A, 1616B, 1616C, 2500, 2501, 2506, 2508, 2510, 2512, 2515, 2516, 2518, 2555, 2555A, 2560A, 2558, 2560, 3740, 9379

Comments: W/in restricted area, public assess denied & no alter. method w/out compromising nat'l sec.

Reasons: Secured Area

Washington

5 Buildings

Division Dr.

JBLM WA 98433

Landholding Agency: Army

Property Number: 21201320024

Status: Underutilized

Directions: 03131; 03135, 03139, 03317, 03320

Comments: secured military cantonment area; public access denied & no alternative method to gain access w/out compromising nat'l security

Reasons: Secured Area

3 Buildings

Libbey Ave.

JBLM WA 98433

Landholding Agency: Army

Property Number: 21201320025

Status: Underutilized

Directions: 03316, 03322, 03330

Comments: secured military cantonment area; public access denied & no alternative method to gain access w/out compromising nat'l security

Reasons: Secured Area

7 Buildings

Spangler Ave.

JBLM WA 98433

Landholding Agency: Army

Property Number: 21201320029

Status: Underutilized

Directions: 03105, 03107, 03117, 03120, 03129, 03133, 03138

Comments: secured military cantonment area; public access denied & no alternative method to gain access w/out compromising nat'l security

Reasons: Secured Area

Building 03136

Joint Base Lewis-McChord

JBLM WA 98433

Landholding Agency: Army

Property Number: 21201320030

Status: Underutilized

Comments: secured military cantonment; public access denied & no alternative method to gain access w/out compromising nat'l security

Reasons: Secured Area

[FR Doc. 2013-11449 Filed 5-16-13; 8:45 am]

BILLING CODE 4210-67-P